DEPARTMENT OF COMMERCE

National Oceanic and Atmospheric Administration

[RTID 0648-XC001]

Pacific Fishery Management Council; Public Meetings and Public Hearing

AGENCY: National Marine Fisheries Service (NMFS), National Oceanic and Atmospheric Administration (NOAA), Commerce.

ACTION: Notice of a public meeting.

SUMMARY: The Pacific Fishery Management Council (Pacific Council)'s Salmon Technical Team (STT) and Model Evaluation Workgroup (MEW) will hold a joint meeting on May 24, 2022 to discuss salmon topics in preparation for the June and September 2022 Pacific Council meetings. The meeting is open to the public.

DATES: The meeting will be held on Tuesday May 24, 2022, from 9 a.m. until 4 p.m., or until business in completed.

ADDRESSES: The meeting will be held at the Pacific Fishery Management Council, 7700 NE Ambassador Place, Suite 101, Portland, OR 97220-1384, telephone: (503) 820-2280 (voice) or (503) 820-2299 (fax).

Council address: Pacific Fishery Management Council, 7700 NE Ambassador Place, Suite 101, Portland, OR 97220.

FOR FURTHER INFORMATION CONTACT: Ms. Robin Ehlke, Staff Officer, Pacific Council; telephone: (503) 820-2410.

SUPPLEMENTARY INFORMATION: In preparation for the June 2022 Pacific Council meeting, the STT will discuss the work required and timeline necessary to investigate the accuracy of and consider potential improvements to recent preseason effort projections produced by the Klamath Ocean Harvest Model (KOHM) during the preseason management process.

In preparation for the September 2022 Pacific Council meeting, the STT and MEW will discuss the work required and timeline necessary to investigate the potential for improvements to forecasts of ocean exploitation rates for Southern Oregon/Northern California Coast (SONCC) coho salmon.

Discussions may include additional topics as time allows, including but not limited to administrative and ecosystem matters on the Pacific Council's June and September 2022 meetings, and various salmon related topics of pertinence.

Although non-emergency issues not contained in the STT meeting agendas may come before the STT for discussion, those issues may not be the subject of formal STT action during these meetings. STT action will be restricted to those issues specifically listed in this document and to any issues arising after publication of this document requiring emergency action under Section 305(c) of the Magnuson-Stevens Fishery Conservation and Management Act, provided the public has been notified of the STT's intent to take final action to address the emergency.

Specific meeting information, including instructions on how to join the meeting and system requirements will be provided in meeting announcements on the Pacific Council's website (see www.pcouncil.org). You may send an email to Mr. Kris Kleinschmidt (kris.kleinschmidt@noaa.gov) or contact him at (503) 820-2412 for technical assistance.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: April 29, 2022.
Tracey L. Thompson,
Acting Deputy Director, Office of Sustainable Fisheries, National Marine Fisheries Service.

[FR Doc. 2022-09531 Filed 5-3-22; 8:45 am]

BILLING CODE 3510-22-P